ENVIRONMENTAL PROTECTION AGENCY

[FRL-9985-51-Region 5]

Public Water System Supervision Program Approval for the State of Indiana

AGENCY: Environmental Protection Agency (EPA).

ACTION: Notice of tentative approval.

SUMMARY: Notice is hereby given that the EPA has tentatively approved the revision to the State of Indiana's Public Water System Supervision (PWSS) Program. Indiana Department of Environmental Management (IDEM) has revised the Total Coliform Rule to comply with the National Primary Drinking Water Regulations. EPA has determined that these revisions are no less stringent than the corresponding federal regulations. Therefore, EPA intends to approve these revisions to the State of Indiana's PWSS Program, thereby giving IDEM primary enforcement responsibility for these regulations.

DATES: A request for a public hearing must be submitted by November 26, 2018, to the Regional Administrator at the EPA Region 5 address shown, below.

ADDRESSES: All documents relating to this determination are available for inspection at the following offices: Indiana Department of Environmental Management, Office of Water Quality, Drinking Water Branch, 100 North Senate Avenue, Mailcode 66-34 ICGN 1201, Indianapolis, Indiana 46204-2251, between the hours of 8:00 a.m. and 4:00 p.m., Monday through Friday, and the United States Environmental Protection Agency, Region 5, Ground Water and Drinking Water Branch (WG-15J), 77 West Jackson Boulevard, Chicago, Illinois 60604, between the hours of 9:00 a.m. and 4:30 p.m., Monday through Friday.

FOR FURTHER INFORMATION CONTACT: Rita Bair, EPA Region 5, Ground Water and Drinking Water Branch, at the address given above, by telephone at (312) 886-2406, or at bair.rita@epa.gov.

SUPPLEMENTARY INFORMATION: IDEM submitted its final application for the Revised Total Coliform Rule (RTCR) on February 28, 2016. In a letter dated March 23, 2017, EPA issued a determination to them that the State's application for the RTCR was complete and final and the State was awarded interim primacy until final primacy could be awarded. In this same letter EPA indicated that there were certain items that needed to be resolved before EPA could award final primacy. IDEM completed its response to EPA's comments and questions on August 21, 2017.

Any interested party may request a public hearing. A request for a public hearing must be submitted by November 26, 2018, to the Regional Administrator at the EPA Region 5 address shown below. The Regional Administrator may deny frivolous or insubstantial requests for a hearing. However, if a substantial request for a public hearing is made by November 26, 2018, EPA Region 5 will hold a public hearing, and a notice of such hearing will be given in the Federal Register and a newspaper of general circulation. If EPA Region 5 does not receive a timely and appropriate request for a hearing and the Regional Administrator does not elect to hold a hearing on her own motion, this determination shall become final and effective on November 26, 2018. Any request for a public hearing shall include the following information: The name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

Authority: Section 1413 of the Safe Drinking Water Act, 42 U.S.C. 300g-2, and the federal regulations implementing Section 1413 of the Act set forth at 40 CFR part 142.

Dated: October 3, 2018.
Catherine Stepp,
Regional Administrator, Region 5.

[FR Doc. 2018-22652 Filed 10-24-18; 8:45 am]

BILLING CODE 6560-50-P